DEPARTMENT OF THE INTERIOR

Bureau of Land Management

[CO600-05-1040-MO]

Notice of Public Meeting, Southwest Resource Advisory Council Meeting

AGENCY: Bureau of Land Management, Department of the Interior.

ACTION: Notice of public meeting.

SUMMARY: In accordance with the Federal Land Policy and Management Act (FLPMA) and the Federal Advisory Committee Act of 1972 (FACA), the U.S. Department of the Interior (DOI), Bureau of Land Management (BLM) Southwest Colorado Resource Advisory Council (RAC) will meet as indicated below.

DATES: The Southwest Colorado RAC meeting will begin at 9 a.m. and adjourn at 4 p.m. on October 28, 2005.

ADDRESSES: The Southwest Colorado RAC meeting will be held at the Uncompahgre Field Office, 2505 S. Townsend Ave., Montrose, Colorado.

FOR FURTHER INFORMATION CONTACT: Barbara Sharrow, Field Manager, BLM Uncompahgre Field Office, 2505 S. Townsend Ave., Montrose, CO, telephone (970) 240-5300; or Melodie Lloyd, Public Affairs Specialist, BLM Western Slope Center, 2815 H Rd., Grand Junction, CO, telephone (970) 244-3097.

SUPPLEMENTARY INFORMATION: The 15-member Council advises the Secretary of the Interior, through the BLM, on a variety of planning and management issues associated with public lands managed by the BLM in southwestern Colorado. All meetings are open to the public.

The purpose of the meeting:

Field manager updates.

Briefing on BLM sage grouse policies and strategies.

Briefing on improved processes for lease sale notification.

Briefing on land acquisition projects in southwestern Colorado.

Schedule 2006 meetings.

There will be an opportunity for the public to address the RAC at 2:30 p.m. Written comments may be submitted for the RAC's consideration. Individuals who plan to attend and need special assistance, such as sign language interpretation or other reasonable accommodations, should contact the BLM as provided above.

Dated: September 1, 2005.
Barbara Sharrow,
Lead Designated Federal Officer and Uncompahgre Field Manager.

[FR Doc. 05-17900 Filed 9-9-05; 8:45 am]

BILLING CODE 4310-JB-P